DEPARTMENT OF LABOR

Office of Workers' Compensation Programs

Agency Information Collection Activities; Comment Request; Miner's Claim for Benefits Under the Black Lung Benefit's Act (CM-911) and Employment History (CM-911A) Division of Coal Mine Workers' Compensation

AGENCY: Office of Workers' Compensation Programs.

ACTION: Notice.

SUMMARY: Currently, the Office of Workers' Compensation Programs is soliciting comments concerning the proposed collection: Miner's Claim for Benefits under the Black Lung Benefit's Act (CM-911) and Employment History (CM-911A). A copy of the proposed information collection request can be obtained by contacting the office listed below in the addresses section of this Notice. This program helps to ensure that requested data can be provided in the desired format, reporting burden (time and financial resources) is minimized, collection instruments are clearly understood, and the impact of collection requirements on respondents can be properly assessed.

DATES: Consideration will be given to all written comments received on or before December 6, 2021.

ADDRESSES: You may submit comments by mail, delivery service, or by hand to Ms. Anjanette Suggs, U.S. Department of Labor, 200 Constitution Ave. NW, Room S-3323, Washington, DC 20210; by fax to (202) 354-9660; or by Email to Suggs.Anjanette@dol.gov. Please use only one method of transmission for comments (mail/delivery, fax, or Email). Please note that comments submitted after the comment period will not be considered.

FOR FURTHER INFORMATION: Contact Anjanette Suggs by telephone at 202-354-9660 or by email at suggs.anjanette@dol.gov.

SUPPLEMENTARY INFORMATION: The Department of Labor, as part of its continuing effort to reduce paperwork and respondent burden, conducts a preclearance consultation program to provide the general public and Federal agencies with an opportunity to comment on proposed and/or continuing collections of information in accordance with the Paperwork Reduction Act of 1995 (PRA95).

I. Background: The Black Lung Benefits Act (BLBA), (30 U.S.C. 901 et seq.) provides benefits to coal miners who are totally disabled due to pneumoconiosis (black lung disease) and to certain survivors of miners. Miners entitled to benefits also receive medical benefits for treatment related to their pneumoconiosis and resulting disability. A miner who applies for black lung benefits must complete the CM-911 (application form). The completed form gives basic identifying information about the applicant and is the beginning of the development of the black lung claim. Title 20 CFR 725.304a authorizes this information collection. This form, when completed, provides a complete history of the miner's employment and helps to establish whether the individual currently or formerly worked in the nation's coal mines and how long that employment lasted. Title 20 CFR 725.404(a) authorizes this information collection. This information collection is currently approved for use through March 31, 2022.

II. Review Focus: The Department of Labor is particularly interested in comments which:

* Evaluate whether the proposed collection of information is necessary for the proper performance of the functions of the agency, including whether the information will have practical utility;

* evaluate the accuracy of the agency's estimate of the burden of the proposed collection of information, including the validity of the methodology and assumptions used;

* enhance the quality, utility and clarity of the information to be collected; and

* minimize the burden of the collection of information on those who are to respond, including through the use of appropriate automated, electronic, mechanical, or other technological collection techniques or other forms of information technology, e.g., permitting electronic submissions of responses.

III. Current Actions: The Department of Labor seeks the approval for the extension of this currently-approved information collection in order to carry out its responsibility to administer the Black Lung Benefits Act.

Comments submitted in response to this notice will be summarized and/or included in the request for Office of Management and Budget approval of the information collection request; they will also become a matter of public record.

Agency: Office of Workers' Compensation Programs.

Type of Review: Revision.

Title: Miner's Claim for Benefits under the Black Lung Benefit's Act (CM-911) and Employment History (CM-911A).

OMB Number: 1240-0038.

Agency Number: CM-911 and CM-911A.

Affected Public: Individuals or households.

Form | Time to complete | Frequency of response | Number of respondents | Number of responses | Hours burden
CM-911 | 45 | once | 4,900 | 4,900 | 3,675
CM-911A | 40 | once | 4,900 | 4,900 | 3,266
Totals |  |  | 9,800 | 9,800 | 6,970

Total Respondents: 9,800.

Total Annual Responses: 9,800.

Average Time per Response: 42.5 minutes.

Estimated Total Burden Hours: 6,941.

Frequency: On occasion.

Total Burden Cost (capital/startup): $0.

Anjanette Suggs,
Agency Clearance Officer.

[FR Doc. 2021-21912 Filed 10-6-21; 8:45 am]

BILLING CODE 4510-CK-P